DEPARTMENT OF JUSTICE

Notice of Lodging of Settlement Agreements in Philip Services Corporation Under the Comprehensive Environmental Response Compensation and Liability Act (CERCLA) and Resource Conservation and Recovery Act (RCRA)

Notice is hereby given that on December 4 and/or 7, 2003, four proposed Settlement Agreements were filed with the United States Bankruptcy Court for the Southern District of Texas in In re Philip Services Corporation, No. 03-37718-H2-11 (Bankr. S.D. Tex.). The Settlement Agreements among the United States on behalf of U.S. EPA, the States of Michigan, South Carolina, Alabama, and Washington, and Debtor Philip Services Corporation and its affiliated Debtors resolve CERCLA and RCRA claims as provided in the Settlement Agreements for facilities located on Schaefer Highway in Detroit, Michigan; Vernsdale Road in Rock Hill, South Carolina; 27th Avenue in Birmingham, Alabama; the Pasco Sanitary Landfill in Pasco, Washington; the Pier 91 Site in Seattle, Washington; and the Landsburg Mine Site near Ravensdale, Washington.

Under the Michigan Settlement Agreement, the Governmental Parties will receive the benefit of $559,126 from financial assurance and $823,000 to be paid over five years. Under the South Carolina Settlement Agreement, the Governmental Parties will receive the benefit of $2,981,934 in financial assurance and $1.3 million to be paid over five years. Under the Alabama Settlement Agreement, the Governmental Parties will receive the benefit of $500,000 over five years. Under the Washington Agreement, Debtors are paying $1,000,050 and providing an additional allowed general unsecured claim of $45,000,000 for the Pasco Sanitary Landfill site, paying $740,000 for the Pier 91 Site, and paying $150,000 towards the Landsberg Mine Site.

The Department of Justice will receive comments relating to the Settlement Agreements if such comments are received by the close of Business on December 18, 2003. Comments should be addressed to the Assistant Attorney General, Environment and Natural Resources Division, P.O. Box 7611, U.S. Department of Justice, Washington, DC 20044-7611, should refer to In re Philips Services Corporation, No. 03-37718-H2-11 (Bankr. S.D., Tex.), D.J. Ref. 90-11-3-06852/1, and may be faxed to (202) 514-0097, Attn: Alan Tenenbaum. Commenters may request an opportunity for a public meeting in the affected area, in accordance with section 7003(d) of RCRA, 42 U.S.C. 6973(d).

The Settlement Agreements may be examined at the Office of the United States Attorney for the Southern District of Texas, 910 Travis, Suite 1500, Houston, TX 77005, and at the United States Environmental Protection Agency, 401 M Street, SW., Washington, DC 20460. During the public comment period, the Settlement Agreements may also be examined on the following Department of Justice Web site, http://www.usdoj.gov/enrd/open.html. A copy of the Settlement Agreements may also be obtained by mail from the Consent Decree Library, P.O. Box 7611, U.S., Department of Justice, Washington, DC 20044-7611 or by faxing or e-mailing a request to Tonia Fleetwood (tonia.fleetwood@usdoj.gov), fax no. (202) 514-0097, phone confirmation number (202) 514-1547. In requesting a copy from the Consent Decree Library, please enclose a check in the a;mount of $8.00 for the Michigan Settlement Agreement, $8.25 for the South Carolina Settlement Agreement, $8.25 for the Alabama Settlement Agreement, and $10.50 for the Washington Settlement Agreement and related documents (25 cents per page reproduction cost) payable to the U.S. Treasury.

W. Benjamin Fisherow,
Deputy Section Chief, Environmental Enforcement Section, Environment and Natural Resources Division.

[FR Doc. 03-30660 Filed 12-10-03; 8:45 am]

BILLING CODE 4410-15-M